DEPARTMENT OF ENERGY

Federal Energy Regulatory Commission

[Docket No. CP09-60-001]

Dominion Cove Point LNG, LP; Notice of Amendment To Application

March 19, 2009.

Take notice that on March 5, 2009, Dominion Cove Point LNG, LP (Cove Point) with a principal place of business at 120 Tredegar Street, Richmond, VA, filed with the Federal Energy Regulatory Commission an amendment to its February 4, 2009 application under section 3 of the Natural Gas Act. In this application, Cove Point is seeking authorization to upgrade, modify, and expand the existing offshore pier at Cove Point's LNG Terminal located in Calvert County, Maryland. Cove Point says that these proposed facilities will enable the safe docking, discharge and departure from the pier of next-generation LNG vessels that are now coming into service worldwide.

Cove Point's amendment to its application is more fully set forth in the March 5, 2009, filing which is on file with the Commission and open to public inspection. The filing is available for review at the Commission in the Public Reference Room or may be viewed on the Commission's Web site at http://www.ferc.gov using the “eLibrary” link. Enter the docket number excluding the last three digits in the docket number field to access the document, but include 001 in the sub docket list. For assistance, contact FERC at FERCOnline Support@ferc.gov or call toll-free, (886) 208-3676 or TYY, (202) 502-8659.

Any questions regarding this Application should be directed to Amanda K. Prestage, Regulatory and Certificates Analyst II, Dominion Transmission, Inc., 701 East Cary Street, Richmond, VA 23219, telephone: (804) 771-4416, fax: (804) 771-4804.

In Exhibit Z3 of Cove Point's February 4, 2009, application it included certain applicable proposed revisions to its tariff. By this amendment, Cove Point has further revised certain proposed tariff sheets and proposed further revisions to its tariff. Specifically, Cove Point has revised proposed tariff sheet Nos. 23A, 51, and 287; and added to its application proposed revisions to tariff sheet Nos. 27 and 31. All other aspects of Cove Point's proposal remain the same as filed on February 4, 2009.

There are two ways to become involved in the Commission's review of this project.¹ First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

¹ Persons who have already filed motions to intervene or commented on this application need not file anything again unless they seek to comment on the specific revisions to the application proposed in this amendment.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 14 copies of the protest or intervention to the Federal Energy regulatory Commission, 888 First Street, NE., Washington, DC 20426.

Comment Date: April 3, 2009.

Kimberly D. Bose,
Secretary.

[FR Doc. E9-6695 Filed 3-25-09; 8:45 am]

BILLING CODE 6717-01-P